DEPARTMENT OF THE INTERIOR

Bureau of Indian Affairs

[2221A2100DD/AAKC001030/A0A501010.999900 253G; OMB Control Number 1076-0104]

Agency Information Collection Activities; Submission to the Office of Management and Budget for Review and Approval; Federal Acknowledgment as an Indian Tribe, 25 CFR 83

AGENCY: Bureau of Indian Affairs, Interior.

ACTION: Notice of information collection; request for comment.

SUMMARY: In accordance with the Paperwork Reduction Act of 1995, we, the Assistant Secretary—Indian Affairs (AS-IA) are proposing to renew an information collection with revisions.

DATES: Interested persons are invited to submit comments on or before November 8, 2021.

ADDRESSES: Send written comments on this information collection request (ICR) to the Office of Management and Budget's Desk Officer for the Department of the Interior by email at OIRA_Submission@omb.eop.gov; or via facsimile to (202) 395-5806. Please provide a copy of your comments to R. Lee Fleming, Director, Office of Federal Acknowledgment, Assistant Secretary—Indian Affairs, 1849 C Street NW, MS-4071 MIB, Washington, DC 20240; facsimile: (202) 219-3008; email: Lee.Fleming@bia.gov. Please reference OMB Control Number 1076-0104 in the subject line of your comments.

FOR FURTHER INFORMATION CONTACT: To request additional information about this ICR, contact R. Lee Fleming, (202) 513-7650. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provides the requested data in the desired format.

A Federal Register notice with a 60-day public comment period soliciting comments on this collection of information was published on May 20, 2021 (86 FR 27464). No comments were received.

We are again soliciting comments on the proposed ICR that is described below. We are especially interested in public comment addressing the following issues: (1) Is the collection necessary to the proper functions of the AS-IA; (2) will this information be processed and used in a timely manner; (3) is the estimate of burden accurate; (4) how might the AS-IA enhance the quality, utility, and clarity of the information to be collected; and (5) how might the AS-IA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Submission of this information allows the Office of Federal Acknowledgment (OFA), within the Office of the Assistant Secretary—Indian Affairs, to review groups' documented petitions for the Federal acknowledgment as an Indian tribe. The acknowledgment regulations at 25 CFR 83 contain seven criteria that unrecognized groups seeking Federal acknowledgment as Indian tribes must demonstrate that they meet. Information collected from petitioning groups under these regulations provide anthropological, genealogical, and historical data used by the AS-IA to establish whether a petitioning group has the characteristics necessary to be acknowledged as a continuously existing Indian tribe. Federal acknowledgment establishes a government-to-government relationship with the United States. Respondents are not required to retain copies of the information submitted to OFA but will probably maintain copies for their own use; therefore, there is no recordkeeping requirement included in this information collection.

Proposed Revisions to This Information Collection

We are no longer planning to revise this information collection to include collections of information related to petitions for Federal acknowledgment under 25 CFR part 82, for entities in Alaska that were not recognized as bands or Tribes before 1936, as stated in the proposed rule published in the Federal Register of January 2, 2020 (85 FR 26902) and May 5, 2020 (85 FR 26902).

Title of Collection: Federal Acknowledgment as an Indian Tribe, 25 CFR 83.

OMB Control Number: 1076-0104.

Form Number: BIA-8304, BIA-8305, and BIA-8306.

Type of Review: Revision of a currently approved collection.

Respondents/Affected Public: Groups petitioning for Federal acknowledgment as Indian Tribes.

Total Estimated Number of Annual Respondents: 1 per year, on average.

Total Estimated Number of Annual Responses: 1 per year, on average.

Estimated Completion Time per Response: 1,516 hours, on average.

Total Estimated Number of Annual Burden Hours: 1,516 hours.

Respondent's Obligation: Required to Obtain a Benefit.

Frequency of Collection: Once.

Total Estimated Annual Nonhour Burden Cost: $2,100,000.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2021-21940 Filed 10-6-21; 8:45 am]

BILLING CODE 4337-15-P